DEPARTMENT OF DEFENSE

Department of the Army

[Docket ID: USA-2015-HQ-0048]

Privacy Act of 1974; System of Records

AGENCY: Department of the Army, DoD.

ACTION: Notice to alter a system of records.

SUMMARY: The Department of the Army proposes to alter a system of records notice AAFES 1609.03, entitled “AAFES Catalog System” is used to locate order information; to reply to customer inquiries and complaints; to create labels for shipment to the proper location; to refund customer remittances or to collect monies due; to provide claim and postal authorities with confirmation/certification of shipment for customer claims for damage or lost shipments.

DATES: Comments will be accepted on or before January 13, 2016. This proposed action will be effective on the date following the end of the comment period unless comments are received which result in a contrary determination.

ADDRESSES: You may submit comments, identified by docket number and title, by any of the following methods:

• Federal Rulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Division Web site at http://dpcld.defense.gov/. The proposed systems reports, as required by 5 U.S.C. 552a(r) of the Privacy Act, as amended, were submitted on October 23, 2015, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 8, 2015.
Aaron Siegel,
Alternate OSD Federal Register Liaison Officer, Department of Defense.

AAFES 1609.03

System name:

AAFES Catalog System (August 9, 1996, 61 FR 41572).

Changes:

* * * * *

System location:

Delete entry and replace with “Headquarters, Army and Air Force Exchange Service, 3911 S. Walton Walker Boulevard, Dallas, TX 75236-1598.”

* * * * *

Categories of records in the system:

Delete entry and replace with “Customer name, Social Security Number (SSN), mailing address, email address, telephone number, method of payment, partial credit card number, name and address of recipient of order, description and price of item ordered, method of shipment, amount of order/refund, claim data for returns/damages to shipments, and freight entry assigned to shipment.”

Authority for maintenance of the system:

Delete entry and replace with “10 U.S.C. 3013, Secretary of the Army; and 8013, Secretary of the Air Force; Department of Defense Instruction 1015.15, Establishment, Management, and Control of Nonappropriated Fund Instrumentalities and Financial Management of Supporting Resources; Army Regulation 215-8/Air Force Instruction 34-211(I), Army and Air Force Service Operations; and E.O. 9397 (SSN), as amended.”

Purpose:

Delete entry and replace with “The system is used to locate order information; to reply to customer inquiries and complaints; to create labels for shipment to the proper location; to refund customer remittances or to collect monies due; to provide claim and postal authorities with confirmation/certification of shipment for customer claims for damage or lost shipments.”

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

To the on-line ordering fulfillment contractor to allow for the confirmation by email of orders received, fulfilled and closed.

To Exchange vendor representative organizations for the purpose of direct shipment from the supplier to the customer.

Disclosures pursuant to 5 U.S.C. 552a(b)(12) may be made from this system to “consumer reporting agencies” as defined in the Fair Credit Reporting Act (15 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records. The disclosure is limited to information necessary to establish the identity of the individual, including name address, and SSN.

The DoD Blanket Routine Uses set forth at the beginning of the Army's compilation of system of records notices may apply to this system. The complete list of DoD Blanket Routine Uses can be found online at: http://dpcld.defense.gov/Privacy/SORNsIndex/BlanketRoutineUses.aspx”.

Policies and practices for storing, retrieving, accessing, retaining, and disposing of records in the system:

Storage:

Delete entry and replace with “Electronic storage media and paper records.”

Retrievability:

Delete entry and replace with “By order number, purchase order number, customer's name, name of recipient, phone number, SSN, or freight entry assigned to shipment.”

* * * * *

Retention and disposal:

Delete entry and replace with “Information on shipments is maintained in computer files for 180 days following completion of shipment and destroyed after 6 years or until obsolete or superseded.

Purchase orders are retained for 2 years; transaction records are retained for 2 years; refund vouchers are retained for 6 years; returned merchandise slips are retained for 6 years; repair/replacement order slips are held 2 years. All records are destroyed by shredding. All electronic records are destroyed by erasing/reformatting the media.

Customer records are kept continuously until obsolete or superseded, at which point paper records are shredded, and electronic records are destroyed by erasing/reformatting the media.”

System manager(s) and address:

Delete entry and replace with “Director/Chief Executive Officer, Army and Air Force Exchange Service, 3911 S. Walton Walker Boulevard, Dallas, TX 75236-1598.”

Notification procedure:

Delete entry and replace with “Individuals seeking to determine whether information about themselves is contained in this system should address written inquiries to the Director/Chief Executive Officer, Army and Air Force Exchange Service, 3911 S. Walton Walker Boulevard, Dallas, TX 75236-1598.

Individual should provide name, current address and telephone number, and sufficient details to permit locating pertinent records.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Record access procedures:

Delete entry and replace with “Individuals seeking access to information about themselves contained in this system should address written inquiries to the Director/Chief Executive Officer, Army and Air Force Exchange Service, Attention: FOIA/Privacy Manager, 3911 S. Walton Walker Boulevard, Dallas, TX 75236-1598.

Individual should provide name, current address and telephone number, and sufficient details to permit locating pertinent records.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

* * * * *

[FR Doc. 2015-31352 Filed 12-11-15; 8:45 am]

BILLING CODE 5001-06-P